NUCLEAR REGULATORY COMMISSION

Advisory Committee on Reactor Safeguards; Meeting Notice

In accordance with the purposes of sections 29 and 182b. of the Atomic Energy Act (42 U.S.C. 2039, 2232b), the Advisory Committee on Reactor Safeguards (ACRS) will hold a meeting on May 8-9, 2003, in Conference Room T-2B3, 11545 Rockville Pike, Rockville, Maryland. The date of this meeting was previously published in the Federal Register on Monday, November 20, 2002 (67 FR 70094).

Thursday, May 8, 2003

8:30 a.m.-8:35 a.m.: Opening Statement by the ACRS Chairman (Open)—The ACRS Chairman will make opening remarks regarding the conduct of the meeting.

8:35 a.m.-10:30 a.m.: Vessel Head Penetration Cracking and Degradation (Open)—The Committee will hear presentations by and hold discussions with representatives of the NRC staff and industry regarding industry responses to NRC Bulletin 2002-02, “Reactor Pressure Vessel Head Degradation and Reactor Coolant Pressure Boundary Integrity,” Electric Power Research Institute's Materials Reliability Program's proposed inspection program, wastage research, and related matters.

10:45 a.m.-12:15 p.m.: Proposed Revisions to Regulatory Guide 1.178 and Standard Review Plan Section 3.9.8 for Risk-Informed Inservice Inspection of Piping (Open)—The Committee will hear presentations by and hold discussions with representatives of the NRC staff regarding the proposed revisions to Regulatory Guide 1.178, “An Approach for Plant-Specific, Risk-Informed Decisionmaking: Inservice Inspection of Piping,” and to Standard Review Plan Section 3.9.8, “Standard Review Plan for the Review of Risk-Informed Inservice Inspection Applications.”

1:15 p.m.-2:15 p.m.: Operating Experience Program Effectiveness (Open)—The Committee will hear presentations by and hold discussions with representatives of the NRC staff regarding ongoing efforts to improve the agency's Reactor Operating Experience Program.

2:15 p.m.-3:15 p.m.: Draft Commission Paper on ACRS Self Assessment (Open)—The Committee will discuss a draft Commission Paper regarding ACRS Self Assessment.

3:30 p.m.-7 p.m.: Proposed ACRS Reports (Open/Closed)—The Committee will discuss proposed ACRS reports on matters considered during this meeting, as well as a proposed ACRS report on Advancement of PRA Technology to Improve Risk-Informed Decisionmaking. In addition, the Committee will consider a proposed ACRS report on Safeguards and Security (Closed). The discussion of the Safeguards and Security report will be held in Room T-8E8.

Friday, May 9, 2003

8:30 a.m.-8:35 a.m.: Opening Remarks by the ACRS Chairman (Open)—The ACRS Chairman will make opening remarks regarding the conduct of the meeting.

8:35 a.m.-9 a.m.: Subcommittee Report on the Revised Mixed Oxide (MOX) Fuel Fabrication Facility Application (Open)—Report by the Chairman of the ACRS Subcommittee on Reactor Fuels regarding the revised construction authorization application for the MOX Fuel Fabrication Facility and the staff's proposed Safety Evaluation Report.

9 a.m.-9:15 a.m.: Subcommittee Report on the Integrated Industry Initiating Event Performance Indicator (Open)—Report by the Chairman of the Reliability and PRA Subcommittee regarding the integrated industry initiating event performance indicator which is part of the Industry Trends Program.

9:15 a.m.-10:15 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

10:15 a.m.-10:30 a.m.: Reconciliation of ACRS Comments and Recommendations (Open)—The Committee will discuss the responses from the NRC Executive Director for Operations (EDO) to comments and recommendations included in recent ACRS reports and letters. The EDO responses are expected to be made available to the Committee prior to the meeting.

10:45 a.m.-6:30 p.m.: Preparation of ACRS Reports (Open)—The Committee will discuss proposed ACRS reports.

6:30 p.m.-7 p.m.: Miscellaneous (Open)—The Committee will discuss matters related to the conduct of Committee activities and matters and specific issues that were not completed during previous meetings, as time and availability of information permit.

Procedures for the conduct of and participation in ACRS meetings were published in the Federal Register on October 11, 2002 (67 FR 63460). In accordance with those procedures, oral or written views may be presented by members of the public, including representatives of the nuclear industry. Electronic recordings will be permitted only during the open portions of the meeting. Persons desiring to make oral statements should notify the Associate Director for Technical Support named below five days before the meeting, if possible, so that appropriate arrangements can be made to allow necessary time during the meeting for such statements. Use of still, motion picture, and television cameras during the meeting may be limited to selected portions of the meeting as determined by the Chairman. Information regarding the time to be set aside for this purpose may be obtained by contacting the Associate Director prior to the meeting. In view of the possibility that the schedule for ACRS meetings may be adjusted by the Chairman as necessary to facilitate the conduct of the meeting, persons planning to attend should check with the Associate Director if such rescheduling would result in major inconvenience.

In accordance with subsection 10(d) Pub. L. 92-463, I have determined that it is necessary to close a portion of this meeting noted above to discuss and protect information classified as national security information pursuant to 5 U.S.C. 552b(c)(1).

Further information regarding topics to be discussed, whether the meeting has been canceled or rescheduled, as well as the Chairman's ruling on requests for the opportunity to present oral statements and the time allotted therefor can be obtained by contacting Dr. Sher Bahadur, Associate Director for Technical Support ((301) 415-0138), between 7:30 a.m. and 4:15 p.m., ET.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician ((301) 415-8066), between 7:30 a.m. and 3:45 p.m., ET, at least 10 days before the meeting to ensure the availability of this service. Individuals or organizations requesting this service will be responsible for telephone line charges and for providing the equipment and facilities that they use to establish the videoteleconferencing link. The availability of videoteleconferencing services is not guaranteed.

Dated: April 15, 2003.
Andrew L. Bates,
Advisory Committee Management Officer.

[FR Doc. 03-9718 Filed 4-18-03; 8:45 am]

BILLING CODE 7590-01-P